SECURITIES AND EXCHANGE COMMISSION

Sunshine Act Meeting Notice

Federal Register Citation of Previous Announcement: 68 FR 23332, May 1, 2003.

Status: Closed meeting.

Place: 450 Fifth Street, NW., Washington, DC.

Date and Time of Previously Announced Meeting: Tuesday, May 6, 2003, at 10 a.m.

Change in the Meeting: Cancellation of meeting.

The Closed Meeting scheduled for Tuesday, May 6, 2003, has been cancelled.

At times, changes in Commission priorities require alterations in the scheduling of meeting items. For further information and to ascertain what, if any, matters have been added, deleted or postponed, please contact the Office of the Secretary at (202) 942-7070.

Dated: May 5, 2003.
Jonathan G. Katz,
Secretary.

[FR Doc. 03-11567 Filed 5-6-03; 11:51 am]

BILLING CODE 8010-01-P